NUCLEAR REGULATORY COMMISSION

[Docket No. 72-26; NRC-2015-0233]

Pacific Gas & Electric Company, Diablo Canyon Independent Spent Fuel Storage Installation

AGENCY: Nuclear Regulatory Commission.

ACTION: License amendment application; issuance.

SUMMARY: The U.S. Nuclear Regulatory Commission (NRC) reviewed an application by Pacific Gas and Electric (PG&E or the licensee) for amendment of Materials License No. SNM-2511, which authorizes the storage of spent nuclear fuel at the Diablo Canyon Independent Spent Fuel Storage Installation. The licensee requested the removal of preferential loading references from the Technical Specifications (TS). The licensee also requested that the NRC approve several editorial corrections to the TS to improve the readability and human factors usage of the TS.

DATES: April 19, 2016.

ADDRESSES: Please refer to Docket ID NRC-2015-0233 when contacting the NRC about the availability of information regarding this document. You may obtain publicly-available information related to this document using any of the following methods:

• Federal Rulemaking Web site: Go to http://www.regulations.gov and search for Docket ID NRC-2015-0233. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: William Allen, Office of Nuclear Material Safety and Safeguards, U.S. Nuclear Regulatory Commission, Washington, DC 20555-0001; telephone: 301-415-6877, email: William.Allen@nrc.gov.

SUPPLEMENTARY INFORMATION: By letter dated September 16, 2015 (ADAMS Accession No. ML15259A590), as supplemented January 27, 2016 (ADAMS Accession No. ML16027A357), PG&E submitted a license amendment request (LAR) to the NRC in accordance with section 72.56 of title 10 of the Code of Federal Regulations (10 CFR). The LAR requested that the TS of Materials License No. SNM-2511 be amended by (a) removing references to preferential loading from the TS, and (b) making editorial corrections to the TS, to improve their readability and human factors usage. The NRC staff (staff) docketed the application, and in accordance with 10 CFR 72.46(b)(1), a Notice of Proposed Action and a Notice of Opportunity for Hearing was published in the Federal Register on October 30, 2015 (80 FR 66938). No requests for a hearing or leave to intervene were submitted.

The staff has completed its review of the September, 2015 LAR, and has determined that it complies with the standards and requirements of the Atomic Energy Act of 1954, as amended (the Act), as well as the NRC's rules and regulations. As required by the Act and the NRC's rules and regulations in 10 CFR Chapter 1, the staff made the appropriate findings which are contained in a Safety Evaluation Report (ADAMS Accession No. ML16048A478). The NRC has thus granted the LAR and has accordingly issued Amendment No. 5 to Materials License No. SNM-2511.

Environmental Consideration

The staff's environmental review of the proposed action is set forth in the Safety Evaluation Report. The staff found that the LAR met the categorical exclusion criteria in 10 CFR 51.22(c)(11). Specifically, the staff determined that granting the LAR (i) does not produce a significant change in either the type or amount of effluents released to the environment; (ii) does not produce a significant increase in occupational radiation exposure; (iii) does not have significant construction impacts; and (iv) does not produce a significant increase in the potential for or consequences from radiological accidents. Accordingly, pursuant to 10 CFR 51.22(b), neither an environmental assessment nor an environmental impact statement was required for this proposed action. This amendment was effective upon issuance.

Dated at Rockville, Maryland, this 7th day of April, 2016.
For the Nuclear Regulatory Commission.
Steve Ruffin,
Acting Chief, Spent Fuel Licensing Branch, Division of Spent Fuel Management, Office of Nuclear Material Safety and Safeguards.

[FR Doc. 2016-09041 Filed 4-18-16; 8:45 am]

BILLING CODE 7590-01-P